DEPARTMENT OF ENERGY

Extension of Scoping Period for the Supplemental Environmental Impact Statement for the Nuclear Facility Portion of the Chemistry and Metallurgy Research Building Replacement Project at Los Alamos National Laboratory, Los Alamos, NM

AGENCY: National Nuclear Security Administration, U.S. Department of Energy.

ACTION: Notice; extension of scoping period.

SUMMARY: On October 1, 2010, the National Nuclear Security Administration (NNSA), a semi-autonomous agency within the U.S. Department of Energy (DOE), published a notice of intent to prepare the Supplemental Environmental Impact Statement for the Nuclear Facility Portion of the Chemistry and Metallurgy Research Building Replacement Project at Los Alamos National Laboratory, Los Alamos, New Mexico (CMRR-NF SEIS; DOE/EIS-0350-S1). That notice stated that the scoping period would continue until November 1, 2010. NNSA has extended the public scoping period through November 16, 2010.

ADDRESSES: Written comments or suggestions concerning the scope of the CMRR-NF SEIS, or requests for more information on the SEIS and public scoping process, should be directed to: Mr. John Tegtmeier, CMRR-NF SEIS Document Manager, U.S. Department of Energy, National Nuclear Security Administration, Los Alamos Site Office, 3747 West Jemez Road, TA-3 Building 1410, Los Alamos, New Mexico, 87544; facsimile at 505-667-5948; or e-mail at: NEPALASO@doeal.gov. Mr. Tegtmeier may also be reached by telephone at 505-665-0113. Additionally, may record their comments, ask questions concerning the EIS, or request to be placed on the EIS mailing or document distribution list by leaving a message on the SEIS Hotline at (toll free) 1-877-427-9439. The Hotline will provide instructions on how to record comments and requests.

FOR FURTHER INFORMATION CONTACT: For general information on the NNSA NEPA process, please contact: Ms. Mary Martin (NA-56), NNSA NEPA Compliance Officer, U.S. Department of Energy, 1000 Independence Avenue, SW., Washington, DC 20585, or telephone 202-586-9438.

For general information concerning the DOE NEPA process, contact: Ms. Carol M. Borgstrom, Director, Office of NEPA Policy and Compliance (GC-54), U.S. Department of Energy, 1000 Independence Avenue, SW., Washington, DC 20585; (202) 586-4600; leave a message at (800) 472-2756; or send an e-mail to askNEPA@hq.energy.gov. Additional information regarding DOE NEPA activities and access to many DOE NEPA documents are available on the Internet through the DOE NEPA Web site at http://nepa.energy.gov.

SUPPLEMENTARY INFORMATION: The Council on Environmental Quality's implementing regulations for the National Environmental Policy Act (NEPA) (40 CFR 1502.9[c] [1] and [2]) and DOE's NEPA implementing regulations (10 CFR 1021.314) require the preparation of a supplement to an environmental impact statement (EIS) when there are substantial changes to a proposal or when there are significant new circumstances or information relevant to environmental concerns. DOE may also prepare a supplemental EIS at any time to further the purposes of NEPA. Pursuant to these provisions, the NNSA intends to prepare a supplemental environmental impact statement (SEIS) to assess the potential environmental impacts of the construction and operation of the nuclear facility portion of the Chemistry and Metallurgy Research Building Replacement Project (CMRR-NF) at Los Alamos National Laboratory (LANL), Los Alamos, New Mexico.

On October 1, 2010, NNSA published a notice of intent to prepare the Supplemental Environmental Impact Statement for the Nuclear Facility Portion of the Chemistry and Metallurgy Research Building Replacement Project at Los Alamos National Laboratory, Los Alamos, New Mexico (DOE/EIS-0350-S1). That notice stated that the scoping period would continue until November 1, 2010. In response to public requests, NNSA has extended the public scoping period through November 16, 2010. NNSA will consider comments received after this date to the extent practicable as it prepares the Draft CMRR-NF SEIS.

Issued in Washington, DC, on November 1, 2010.
Thomas P. D'Agostino,
Administrator, National Nuclear Security Administration.

[FR Doc. 2010-27864 Filed 11-1-10; 4:15 pm]

BILLING CODE 6450-01-P